DEPARTMENT OF AGRICULTURE

Rural Utilities Service

Seminole Electric Cooperative, Inc.; Notice of Availability of an Environmental Assessment

AGENCY: Rural Utilities Service, USDA.

ACTION: Notice of availability of an environmental assessment.

SUMMARY: Notice is hereby given that the Rural Utilities Service (RUS), an agency delivering the U.S. Department of Agriculture's Rural Development Utilities Programs, is issuing an environmental assessment with respect to the environmental impacts related to the construction of a 310 megawatt, simple-cycle electric generation facility at Seminole Electric Cooperative's Payne Creek Generating Station. RUS may provide financing assistance to Seminole Electric Cooperative for the project.

FOR FURTHER INFORMATION CONTACT: Bob Quigel, Rural Utilities Service, Engineering and Environmental Staff, Stop 1571, 1400 Independence Avenue, SW., Washington, DC 20250-1571, telephone: (202) 720-0468. Mr. Quigel's e-mail address is bquigel@rus.usda.gov. Information is also available from James Frauen of Seminole Electric Cooperative. Mr. Frauen may be contacted by telephone at (813) 739-1213. Mr. Frauen's e-mail address is jfrauen@seminole-electric.com.

SUPPLEMENTARY INFORMATION: Seminole Electric Cooperative's proposed electric generation project will involve the construction and operation of nominal 310 MW of simple-cycle combustion turbine electric generating units and associated support facilities at its existing 1,300-acre Payne Creek Generating Station site in Hardee and Polk Counties, Florida. The proposed electric generating facilities will consist of five Pratt & Whitney (P&W) FT8-3 Twin Pac aeroderivative combustion turbine units. Each Twin Pac unit will consist of two simple-cycle combustion turbines coupled with one common electric generator with a nominal generating capacity of 62 MW. The proposed combustion turbine units and associated substation will be constructed in an approximately 8-acre area located adjacent to the east of the existing Payne Creek Generating Station units. A small (i.e., 0.15-acre), isolated freshwater marsh wetland, which will be impacted by construction of the proposed project, is present in the southern portion of the area.

The Payne Creek Generating Station site is located approximately 9 miles northwest of the city of Wauchula, 16 miles south-southwest of the city of Bartow, and 40 miles east of the Tampa Bay area. The site is bordered on the east by County Road 663, a CSX Railroad line, and the CF Industries Hardee Complex phosphate mine.

The simple-cycle combustion turbines will be fired primarily with natural gas via gas pipeline systems which currently provide natural gas for the existing Payne Creek Generating Station units. Low-sulfur distillate fuel oil will serve as backup fuel. The proposed project will require the construction of a new aboveground 1.4-million-gallon fuel oil storage tank to be located adjacent to the existing 1.4-million-gallon storage tank within an expanded spill containment area.

To facilitate interconnection of the proposed project with the Florida power grid, the existing 8-mile-long 230-kV transmission line extending from the Payne Creek Generating Station site to the Vandolah Substation will be upgraded. The line upgrade will consist of replacing the existing conductors with higher current-carrying conductors. Also, both the associated transmission line terminals and switches will be upgraded. These upgrades will not require any additional right-of-way, replacement of any transmission line structures, or any expansion of the Vandolah substation.

Seminole Electric Cooperative submitted an environmental analysis to RUS which describes the project and assesses its potential environmental impacts. RUS has conducted an independent evaluation of the environmental analysis and believes that it accurately assesses the potential impacts of the proposed project. This environmental analysis will serve as RUS' environmental assessment of the project.

The environmental assessment can be reviewed at Seminole Electric Cooperative's headquarters located at 16313 North Dale Mabry Highway, Tampa, Florida 33618, and at the headquarters of RUS at the address provided above. The environmental assessment is also available for review at the Hardee County Library, 315 North 6th Street, Suite 114, Wauchula, Florida 33873, telephone (863) 773-6438 and the Bartow Public Library, 2150 South Broadway Avenue, Bartow, Florida 33830, telephone (863) 534-0131.

Questions and comments should be sent to RUS at the address provided. RUS will accept questions and comments on the environmental assessment for 30 days.

Any final action by RUS related to the proposed project will be subject to, and contingent upon, compliance with all relevant Federal environmental laws and regulations and completion of environmental review procedures as prescribed by the 7 CFR Part 1794, Environmental Policies and Procedures.

Any final action by RUS related to the proposed project will be subject to, and contingent upon, compliance with all relevant Federal environmental laws and regulations and completion of environmental review procedures as prescribed by the 7 CFR Part 1794, Environmental Policies and Procedures.

Dated: August 5, 2004.
Glendon D. Deal,
Director, Engineering and Environmental Staff, Water and Environmental Programs.

[FR Doc. 04-18251 Filed 8-9-04; 8:45 am]

BILLING CODE 3410-15-P